DEPARTMENT OF AGRICULTURE

Agricultural Marketing Service

[Doc. No. AMS-SC-25-0980]

Domestic Hemp Production Program; Notice of Request for Extension and Revision of a Currently Approved Information Collection

AGENCY: Agricultural Marketing Service, Department of Agriculture (USDA).

ACTION: Notice and request for comments.

SUMMARY: In accordance with the Paperwork Reduction Act of 1995, this notice announces the Agricultural Marketing Service's (AMS) intention to request an extension and revision to the approved forms hemp producers licensed by USDA as well as States, Territories, and Tribes with approved hemp production plans must complete as part of the U.S. Domestic Hemp Production Program.

DATES: Comments on this notice are due by March 30, 2026 to be assured of consideration.

ADDRESSES: Interested persons are invited to submit written comments concerning this notice. Comments must be sent to USDA/AMS/Specialty Crops Program Hemp Branch, 470 L'Enfant Plaza SW, P.O. Box 23192, Washington, DC 20026; or online at https://www.regulations.gov. All comments should reference the docket number (TBD), the date, and the page number of this issue of the Federal Register. All comments received will be available for public inspection in the Office of the Docket Clerk, Market Development Division, Specialty Crops Program, AMS, USDA, 1400 Independence Avenue SW, STOP 0237, Washington, DC 20250-0237 during regular business hours, or can be viewed at: https://www.regulations.gov. All comments submitted in response to this notice will be included in the record and will be made available to the public online at www.regulations.gov and will be made available for public inspection at the above physical address during regular business hours. Please be advised that all comments received will be posted without change.

FOR FURTHER INFORMATION CONTACT: Emily Febles, Acting Branch Chief, Domestic Hemp Production Program, Market Development Division, Specialty Crops Program, AMS, USDA, USDA/AMS/Specialty Crops Program Hemp Branch, 470 L'Enfant Plaza SW, P.O. Box 23192, Washington, DC 20026; telephone: 888-721-4367; or email: farmbill.hemp@usda.gov.

SUPPLEMENTARY INFORMATION:

Title: Market Development Division—Domestic Hemp Production Program.

OMB Number: 0581-0318.

Expiration Date of Approval: February 28, 2026.

Type of Request: Extension and revision of a currently approved information collection.

Abstract: The Agricultural Improvement Act of 2018 (2018 Farm Bill) amended the Agricultural Marketing of 1946 and was signed into law December 20, 2018, as Public Law 115-334. Section 10113 of the 2018 Farm Bill amended the Agricultural Marketing Act of 1946 (7 U.S.C. 1621 et seq.) by adding Subtitle G—Hemp Production. The law requires the U.S. Department of Agriculture (USDA) to promulgate regulations and guidelines to develop and oversee a program for the production of hemp in the United States. The Agriculture Improvement Act of 2018, Public Law 115-334 (2018 Farm Bill) directs that this will include State and Tribal plans, and a USDA plan for those States, including territories of Indian Tribes, that choose not to submit their own plan. The 2018 Farm Bill amended the Agricultural Marketing Act of 1946 (AMA) by adding Subtitle G (sections 297A through 297D of the AMA). Section 297B of the AMA requires the Secretary of Agriculture (Secretary) to evaluate and approve or disapprove State or Tribal plans regulating the production of hemp. Section 297C of the AMA requires the Secretary to establish a Federal plan for producers in States and territories of Indian Tribes not covered by plans approved under section 297B. Lastly, section 297D of the AMA requires the Secretary to promulgate regulations and guidelines relating to the production of hemp, including sections 297B and 297C, in consultation with the U.S. Attorney General.

States or Tribes wanting primary regulatory authority over the production of hemp within their borders may submit plans to USDA for approval. These plans outline how the State or Tribe will monitor and regulate hemp production. As instructed in the Farm Bill, this regulation provides procedures and guidance for State and Tribal Governments submitting plans to USDA for approval. USDA approves plans which comply with the Domestic Hemp Production Program regulations.

This is a request for the Office of Management and Budget (OMB) to review and approve seven forms necessary to implement and administer the Domestic Hemp Production Program authorized under the 2018 Farm Bill. Use of these forms is required by 7 CFR part 990, Domestic Hemp Production Program. A description of each form is listed below.

A. AMS-23 State and Tribal Hemp Producer Report

This form requires States and Tribes to provide USDA with contact information for each producer or business entity under their plan, a legal description of the land on which hemp is grown by each licensee, and the status of each license. This form also tracks any changes to a licensee's contact information or status in the program. This form is required to be submitted to USDA on the first business day of each month.

B. AMS-24 State and Tribal Hemp Disposal Report

This form requires States and Tribes to provide USDA with disposal or remediation information of cannabis that tested above the 0.3 percent THC threshold legal limit under program regulations. This form includes the producer's license number, lot location information, including the geospatial location or other available land descriptor for the production area subject to disposal, method used for disposal, the date when the disposal was completed, and the disposal agent name and organization. This form is required to be submitted to USDA on the first business day of each month.

C. AMS-25 State and Tribal Hemp Annual Report

This form is filled out by States or Tribes that operate under a USDA-approved hemp production plan. The States or Tribes fill out this form once a year and include the total number of acreages planted, harvested, remediated, and disposed of under their jurisdiction. This form is required to be submitted to USDA on December 15th of each year.

D. AMS-26 USDA Hemp License Application

This form is filled out by producers that wish to grow hemp under the USDA plan because they do not live in an area that has an approved state or tribal hemp production plan. The information collected on this form is used by USDA to approve applications and track participation in the program. The producer fills out their name, address, telephone number, and email address (if applicable). If the producer is a business entity, they must include the full name of the business, address of the principal business location, full name and title of the key participants, an email address if available, and EIN number of the business entity. Each producer entity needs to submit an application form.

E. AMS-27 USDA Hemp Plan Disposal Form

This form includes disposal/remediation information of cannabis that tests above the acceptable hemp THC level (0.3 percent THC threshold) under the USDA Domestic Hemp Producer Program. The form includes the producer's name and address, license number, location information, including the geospatial location or other available land descriptor for the production area subject to disposal, information on the agent handling the disposal, and the date when the disposal was completed. This form is required to be submitted to USDA no later than 30 days after the disposal/remediation date listed on the form.

F. AMS-28 USDA Hemp Plan Annual Report

This form is completed by each licensed producer under the USDA program. Each licensee must fill out annual production data including acreages planted, harvested, remediated and disposed of under their license. This form is required to be submitted to USDA on December 15th of each year.

G. Report of Acreage (FSA-578)

This form is required to be completed by each producer under a State, Tribe or the USDA plan. Producers shall report name, address, license or authorizing number, geospatial location for each lot or greenhouse where hemp will be produced and hemp crop acreage to the USDA Farm Services Agency (FSA.)

H. AMS-22 Laboratory Test Results Report

This form is used by laboratory personnel to monitor all THC test results for all hemp production under a state, tribal or USDA plan. Each test result must be entered on this form. This form includes the producer's contact information, a hemp production license number, an identification number, the test results for each lot tested, and an attestation on whether the results were passing, failing or retesting.

Burden for Domestic Hemp Production Program

Estimate of Burden: Public reporting burden for this collection of information is estimated to average 0.41 hours per response.

Respondents: Producers, handlers, processors, dehydrators, cooperatives, manufacturers, importers, and public members.

Estimated Number of Respondents: 21,781.

Estimated Number of Responses: 23,719.

Estimated Number of Responses per Respondent: 32.

Estimated Total Annual Burden on Respondents: 8,018 hours.

Comments are invited on: (1) whether the proposed collection of information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

All responses to this notice will be summarized and included in the request for OMB approval. All comments will also become a matter of public record.

AMS is committed to complying with the E-Government Act to promote the use of the internet and other information technologies, to provide increased opportunities for citizen access to Government information and services, and for other purposes.

A 60-day comment period is provided to allow interested people to respond to the notice.

Erin Morris,
Administrator, Agricultural Marketing Service.

[FR Doc. 2026-01641 Filed 1-27-26; 8:45 am]

BILLING CODE; P